DEPARTMENT OF COMMERCE

International Trade Administration

[A-201-805]

Certain Circular Welded Non-Alloy Steel Pipe From Mexico; Extension of Time Limit for Preliminary Results of Antidumping Duty Administrative Review

AGENCY: Import Administration, International Trade Administration, Department of Commerce.

FOR FURTHER INFORMATION CONTACT: Maryanne Burke or Robert James, AD/CVD Operations, Office 7, Import Administration, International Trade Administration, U.S. Department of Commerce, 14th Street and Constitution Avenue NW., Washington, DC 20230; telephone: (202) 482-5604 or (202) 482-0649, respectively.

Background

On November 30, 2009, the Department of Commerce (the Department) received a timely request from domestic interested parties Allied Tube and Conduit Corporation and TMK-IPSCO to conduct an administrative review of the antidumping duty order on certain circular welded non-alloy steel pipe from Mexico. We also received review requests on November 30, 2009, from companies Tuberia Nacional, S.A. de C.V.'s (TUNA), Mueller Comercial de Mexico, S. de R.L. de C.V. (Mueller) and Mueller's affiliated importer Southland Pipe Nipples Co., Inc. On December 23, 2009, the Department published a notice of initiation of this administrative review, covering the period of November 1, 2008 to October 31, 2009. See Initiation of Antidumping and Countervailing Duty Administrative Reviews and Request for Revocation in Part, 74 FR 68229 (December 23, 2009). The current deadline for the preliminary results of this review is August 9, 2010.¹

¹ As explained in the memorandum from the Deputy Assistant Secretary for Import Administration, the Department has exercised its discretion to toll deadlines for the duration of the closure of the Federal Government from February 5, through February 12, 2010. Thus, all deadlines in this segment of the proceeding have been extended by seven days which makes the revised deadline for these preliminary results August 9, 2010. See Memorandum to the Record from Ronald Lorentzen, DAS for Import Administration, regarding “Tolling of Administrative Deadlines As a Result of the Government Closure During the Recent Snowstorm,” dated February 12, 2010.

Extension of Time Limits for Preliminary Results

Section 751(a)(3)(A) of the Tariff Act of 1930, as amended (the Act), requires the Department to complete the preliminary results of an administrative review within 245 days after the last day of the anniversary month of an order for which a review is requested. However, if it is not practicable to complete the review within this time period, section 751(a)(3)(A) of the Act allows the Department to extend the time limit for the preliminary results to a maximum of 365 days after the last day of the anniversary month of an order for which a review is requested.

The Department finds it is not practicable to complete the preliminary results of this review within the original time frame because we require additional time with respect to cost of production data used in the margin calculation programs. In particular, there are complex issues concerning Mueller's cost of production which involve multiple unaffiliated companies. Accordingly, the Department is extending the time limit for completion of the preliminary results of this administrative review until no later than December 7, 2010.² We intend to issue the final results no later than 120 days after publication of the preliminary results notice.

² December 7, 2010 is 365 days from the last day of the anniversary month and includes the Department's extension of all deadlines by seven calendar days because of the February 2010 snowstorm.

This extension is issued and published in accordance with sections 751(a)(3)(A) and 777(i) of the Act.

Dated: July 23, 2010.
Edward C. Yang,
Acting Deputy Assistant Secretary for Antidumping and Countervailing Duty Operations.

[FR Doc. 2010-18688 Filed 7-28-10; 8:45 am]

BILLING CODE 3510-DS-P